DEPARTMENT OF JUSTICE

Office of Justice Programs

[OJP (NIJ) Docket No. 1670]

Offender Tracking System Test Method Validation

AGENCY: National Institute of Justice, DOJ.

ACTION: Notice.

SUMMARY: National Institute of Justice has recently developed draft minimum performance standards for offender tracking systems. In order to ensure that the test methods in the standards are adequate and properly documented, NIJ is requesting proposals (including price quotes) for test method validation efforts from testing laboratories. Additional information for these efforts may be found through the National Law Enforcement and Corrections Technology Center's Web site by following the link below: https://www.justnet.org/standards/Offender_Tracking_Standards.html.

DATES: Please submit proposals no later than October 14, 2014.

FOR FURTHER INFORMATION CONTACT: Joe Russo by telephone at (303) 588-6015 or by email at jrusso@du.edu.

William Sabol,
Acting Director, National Institute of Justice.

[FR Doc. 2014-20390 Filed 8-26-14; 8:45 am]

BILLING CODE 4410-18-P